DEPARTMENT OF THE INTERIOR

Bureau of Land Management

[LLOR936000.L1400000.ET0000.17XL1109AF; HAG 17-0078 WAOR 022193 and WAOR 022197-I]

Public Land Order No. 7865; Partial Revocation of Turn Point Lighthouse Reservation; Washington

AGENCY: Bureau of Land Management, Interior.

ACTION: Public land order.

SUMMARY: This Order revokes the withdrawal created by two Executive Orders as they affect 70.97 acres located at Turn Point, Stuart Island, San Juan Islands, Washington, reserved for use by the United States Coast Guard (USCG) for lighthouse purposes. This Order also transfers administrative jurisdiction over the subject land to the Bureau of Land Management (BLM) to be managed as part of the San Juan Islands National Monument (Monument).

DATES: This Public Land Order takes effect: May 29, 2018.

FOR FURTHER INFORMATION CONTACT: Jacob Childers, Oregon State Office, BLM, at 503-808-6225, or by email at jcchilders@blm.gov. Persons who use a telecommunications device for the deaf (TDD) may call the Federal Relay Service (FRS) at 1-800-877-8339 to reach the above individual. The FRS is available 24 hours a day, 7 days a week, to leave a message or question with the above individuals. You will receive a reply during normal business hours.

SUPPLEMENTARY INFORMATION: The USCG has determined that the reservation for the Turn Point Light Station is no longer needed. The land was incorporated into the Monument by Presidential Proclamation No. 8947 of March 25, 2013, (78 FR 18790 (2013)). In accordance with Presidential Proclamation No. 8947, the lands shall remain closed to appropriation under the general land laws and location and entry under the United States mining laws, subject to valid existing rights and the requirements of applicable law.

Order

By virtue of the authority vested in the Secretary of the Interior by Section 204 of the Federal Land Policy and Management Act of 1976, 43 U.S.C. 1714, it is ordered as follows:

1. The withdrawal created by Executive Orders dated July 15, 1875, and June 6, 1891, which reserved public land at Turn Point for lighthouse purposes, is hereby revoked in-part insofar as it affects the following described land:

Willamette Meridian

T. 37 N, R. 4 W,

sec. 20, lots 5, 6, and 7.

The area described contains 70.97 acres.

2. Administrative jurisdiction over the land described in Paragraph 1 is hereby transferred to the BLM to be managed as part of the National Monument established by Presidential Proclamation No. 8946 of March 25, 2013 (79 FR 18790). Subject to valid existing rights, in accordance with Presidential Proclamation No. 8946, the land shall remain closed to all forms of entry, location, selection, sale, leasing, or other disposition under the public land laws, including withdrawal from location, entry, and patent under the mining laws, and from disposition under all laws relating to mineral and geothermal leasing other than by exchange that furthers the protective purposes of the Proclamation.

Dated: February 12, 2018.
Joseph R. Balash,
Assistant Secretary, Land and Minerals Management.

Editorial note: This document was received for publication by the Office of the Federal Register on May 23, 2018.

[FR Doc. 2018-11453 Filed 5-25-18; 8:45 am]

BILLING CODE 4310-33-P